DEPARTMENT OF AGRICULTURE

Office of Procurement and Property Management

Notice of Request for Comments on Extension of a Currently Approved Information Collection

AGENCY: Departmental Management, Office of Procurement and Property Management, USDA.

ACTION: Notice and request for comments.

SUMMARY: This notice announces the Department of Agriculture, Departmental Management, Office of Procurement and Property Management's intention to request an extension and a revision to a currently approved information collection, Voluntary Labeling Program for Biobased Products for Federal Biobased Products Preferred Procurement Program.

DATES: Comments on this notice must be received by June 5, 2017 to be assured of consideration.

ADDRESSES: The Office of Procurement and Property Management invites interested persons to submit comments on this notice. Comments may be submitted by one of the following methods:

• Federal eRulemaking Portal: This Web site provides the ability to type short comments directly into the comment field on this Web page or attach a file for lengthier comments. Go to http://www.regulations.gov. Follow the instructions for submitting comments.

• Email: biopreferred_support@amecfw.com. Include “Notice on Request for Comments on Extension of a Currently Approved Information Collection” on the subject line. Please include your name and address in your message.

• Mail/commercial/hand delivery: Mail or deliver your comments to: Karen Zhang, USDA, Office of Procurement and Property Management, 1400 Independence Ave. SW., Washington, DC 20250.

Instructions: All items submitted by mail or electronic mail must include the Agency name (Office of Procurement and Property Management). Comments received in response to this notice will be made available for public inspection and posted without change, including any personal information, to http://www.regulations.gov.

FOR FURTHER INFORMATION CONTACT: Karen Zhang, USDA, Office of Procurement and Property Management, 1400 Independence Ave. SW., Washington, DC 20250.

SUPPLEMENTARY INFORMATION: In accordance with the Paperwork Reduction Act of 1995 (44 U.S.C. Chapter 35), this notice announces the intention of the USDA, Office of Procurement and Property Management, to request approval for an extension of an existing collection.

Title: Voluntary Labeling Program for Biobased Products for Federal Biobased Products Preferred Procurement Program.

OMB Control Number: 0503-0020.

Expiration Date of Approval: July 31, 2017.

Type of Request: Extension and revision of a currently approved information collection.

Abstract: Section 9002(h) of the Farm Security and Rural Investment Act (FSRIA) of 2002 (the 2002 Farm Bill), as amended by the Food, Conservation, and Energy Act (FCEA) of 2008 (the 2008 Farm Bill) and the Agricultural Act of 2014 (the 2014 Farm Bill), requires the Secretary of Agriculture to implement a voluntary labeling program that would enable qualifying biobased products to be labeled with a “USDA Certified Biobased Product” label. USDA subsequently published the terms and conditions for voluntary use of the label. These terms and conditions can be found in the Code of Federal Regulations (CFR) at 7 CFR part 3202. To implement the statutory requirements of FSRIA, USDA will gather relevant product information on biobased products for which manufacturers and vendors seek certification to use the label. Participation in the voluntary labeling program is entirely voluntary. The information collected will enable USDA to evaluate the qualifications of biobased products to carry the USDA Certified Biobased Product label and to ensure that the label is used properly and in accordance with the requirements specified in 7 CFR part 3202. To the extent feasible, the information sought by USDA can be transmitted electronically using the Web site http://www.biopreferred.gov. If electronic transmission of information is not practical for some applicants, USDA will provide technical assistance to support the transmission of information to USDA.

Estimate of Burden: Public reporting burden for this collection of information is estimated to average 3 hours per response.

Respondents: Manufacturers and vendors who wish to apply the “USDA Certified Biobased Product” label to their biobased products. Participation is entirely voluntary.

Estimated Annual Number of Respondents: 150.

Estimated Number of Responses per Respondent: 3. One response is required for each stand-alone product or product family for which certification is sought. The average number of stand-alone products or product families that each respondent is expected to apply for certification is three. A stand-alone product is one that is marketed or sold under a single product name, while a product family is a group of products that share the same formulation and biobased content (within 3%) yet are marketed differently depending on factors such as brand names or uses.

Estimated Total Annual Burden on Respondents: 1,350 hours, one time only. Manufacturers and vendors are only required to respond once for each stand-alone product or product family for which they wish to receive certification. Therefore, there is no ongoing annual paperwork burden on respondents unless they wish to apply to label additional stand-alone products or product families. Furthermore, their participation in the voluntary labeling program is entirely voluntary.

Comments are invited on: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology. Comments may be sent to Karen Zhang, USDA, Office of Procurement and Property Management, 1400 Independence Ave. SW., Washington, DC 20250. All comments received will be available for public inspection during regular business hours at the same address.

All responses to this notice will be summarized and included in the request for OMB (Office of Management and Budget) approval. All comments will become a matter of public record.

Dated: March 24, 2017.
Malcom A. Shorter,
Acting Assistant Secretary for Administration, U.S. Department of Agriculture.

[FR Doc. 2017-06856 Filed 4-5-17; 8:45 am]

BILLING CODE 3410-93-P